DEPARTMENT OF HEALTH AND HUMAN SERVICES

Office of Planning, Research and Evaluation

Grants to the University of Louisville

AGENCY: Office of Planning, Research and Evaluation, Administration of Children and Families, Department of Health and Human Services.

ACTION: Award announcement.

SUMMARY: Notice is hereby given that a noncompetitive grant award is being made to the University of Louisville to establish a National Resource Center on Child Welfare Training and Evaluation to provide technical assistance to any State, tribe or agency needing help in the development of a comprehensive training evaluation system.

As a Congressional set-aside, this one-year project is being funded noncompetitively. The University of Louisville has qualified staff and multi-disciplinary resources to establish a national resource center. The cost of this one-year project is $250,000.

FOR FURTHER INFORMATION CONTACT: K.A. Jagannathan, Administration for Children and Families, Office of Planning, Research and Evaluation, 370 L'Enfant Promenade, SW, Washington, DC 20447, Phone: 202-205-4829.

Dated: June 18, 2002.
Howard Rolston,
Director, Office of Planning, Research and Evaluation.

[FR Doc. 02-16419 Filed 6-28-02; 8:45 am]

BILLING CODE 4184-01-M